DEPARTMENT OF HEALTH AND HUMAN SERVICES

Administration for Children and Families

Proposed Information Collection Activity; Data Collection for the Engaging Fathers and Paternal Relatives: A Continuous Quality Improvement Approach in the Child Welfare System Project (New Collection)

AGENCY: Office of Planning, Research, and Evaluation, Administration for Children and Families, HHS.

ACTION: Request for public comment.

SUMMARY: The Office of Planning, Research, and Evaluation (OPRE) within the Administration for Children and Families (ACF) is proposing to conduct data collection activities for the Engaging Fathers and Paternal Relatives: A Continuous Quality Improvement Approach in the Child Welfare System (Fathers and Continuous Learning in Child Welfare [FCL]) Project. This evaluation is a descriptive study of child welfare agencies' use of a continuous quality improvement process called the Breakthrough Series Collaborative (BSC) to implement strategies to improve father and paternal relative engagement in the child welfare system. The project is designed to examine the use of the BSC methodology to strengthen fathers' and paternal relatives' engagement with children involved in child welfare and to add to the evidence base on engagement strategies for fathers and paternal relatives in child welfare.

DATES: Comments due within 60 days of publication. In compliance with the requirements of the Paperwork Reduction Act of 1995, ACF is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written should be identified by the title of the information collection.

SUPPLEMENTARY INFORMATION:

Description: The FCL evaluation has three equally important aims. The first is to describe promising strategies for engaging fathers and paternal relatives in the child welfare system. The second is to assess the promise of the BSC as a continuous quality improvement framework for addressing challenges in the child welfare system, including whether and to what extent the BSC has potential, and if so, how it may be applied to other child welfare challenges. The third is to assess the extent to which agencies experienced a shift in organizational culture in terms of the importance of father engagement.

The descriptive evaluation will build on the findings of the pilot study conducted under the umbrella generic: Formative Data Collections for ACF Program Support (OMB #0970-0531). (Site selection for the pilot study was conducted under the umbrella generic: Formative Data Collections for ACF Research (OMB #0970-0356.) It will focus on organizational changes and network supports for father and paternal relative engagement, changes in staff attitudes and skills for engaging fathers and paternal relatives, and father and paternal relative engagement outcomes. This evaluation will explore the implementation of father and paternal relative engagement strategies by examining process outcomes. By examining process outcomes, the evaluation is designed to indicate whether strategies developed in the BSC are likely to lead to placement stability and permanency outcomes.

Data collection will take place with stakeholders in as many as five child welfare agencies implementing the BSC. Data collection activities include discussions with participating agency staff and key partners during site visits, focus groups with fathers and paternal relatives with relatively recent experience with the focal child welfare agencies, and web surveys of participating agency staff.

Respondents: Child welfare agency leaders, child welfare agency program staff and key partner staff involved in implementing the engagement strategies, and father and paternal relative clients of the agencies. Program staff may include senior leaders, managers, and frontline staff.

Annual Burden Estimates
Instrument | Number of respondents (total over request period) | Number of responses per respondent (total over request period) | Avg. burden per response (in hours) | Total burden (in hours) | Annual burden (in hours)
Interview topic guide | 180 | 1 | 1.5 | 270 | 90
Father and paternal relative focus group protocol | 72 | 1 | 1.5 | 108 | 36
Staff survey | 90 | 2 | 0.33 | 59 | 20

Estimated Total Annual Burden Hours: 146.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority Sec. 403. [42 U.S.C. 603] and Sec. 426. [42 U.S.C. 626].

Mary B. Jones,
ACF/OPRE Certifying Officer.

[FR Doc. 2021-08025 Filed 4-19-21; 8:45 am]

BILLING CODE 4184-73-P